DEPARTMENT OF COMMERCE

International Trade Administration

[A-580-825]

Oil Country Tubular Goods, Other than Drill Pipe, From Korea: Postponement of Time Limits for Preliminary Results of New Shipper Review

AGENCY: Import Administration, International Trade Administration, Department of Commerce.

ACTION: Notice of Postponement of Time Limits for Preliminary Results of New Shipper Review.

DATES: February 6, 2002.

FOR FURTHER INFORMATION CONTACT: Thomas Gilgunn or Scott Lindsay, Import Administration, International Trade Administration, U.S. Department of Commerce, 14th Street and Constitution Avenue, NW, Washington, D.C. 20230; telephone: (202) 482-4236 and (202) 482-0780, respectively.

SUPPLEMENTARY INFORMATION:

The Applicable Statute and Regulations

Unless otherwise indicated, all citations to the statute are references to the Tariff Act of 1930, as amended. In addition, unless otherwise indicated, all citations to the Department's regulations are to the regulations codified at 19 CFR part 351 (2001).

Background:

In response to a request from Shinho Steel Co. Ltd. (Shinho Steel), the Department of Commerce (Department) is conducting this new shipper review of Shinho Steel. (See Oil Country Tubular Goods, Other Than Drill Pipe, From Korea: Initiation of New Shipper Antidumping Administrative Review, 66 FR 18438, (April 9, 2001). The period of review is August 1, 2000 through February 28, 2001.

Postponement of New Shipper Review

On January 22, 2002, Shinho Steel, in accordance with 19 CFR 351.214(j)(3), agreed to waive the time limits applicable to its new shipper review so that the Department might conduct its new shipper review concurrently with the administrative review of the antidumping duty order on OCTG from Korea for the period of August 1, 2000 through July 31, 2001. (See Initiation of Antidumping and Countervailing Duty Administrative Reviews and Requests for Revocation in Part, 66 FR 49924 (October 1, 2001). Therefore, pursuant to respondent's request and in accordance with the Departments's regulations, we will issue the preliminary results of this new shipper review concurrently with the preliminary results of the 2000/2001 administrative review of OCTG from Korea, which are currently scheduled for May 3, 2002.

This notice is published in accordance with section 751(a)(2)(B) of the Act and 19 CFR 351.214(j)(3).

January 28, 2002
Joseph A. Spetrini,
Deputy Assistant Secretary for Import Administration, Group III.

[FR Doc. 02-2871 Filed 2-5-02; 8:45 am]

BILLING CODE 3510-DS-S